DEPARTMENT OF THE INTERIOR

Office of Surface Mining Reclamation and Enforcement

Black Mesa and Kayenta Coal Mines, Coal Slurry Preparation Plant and Pipeline, and Coconino Aquifer Water-Supply System, Coconino, Mohave, Navajo, and Yavapai Counties, Arizona, and Clark County, NV

AGENCY: Office of Surface Mining Reclamation and Enforcement, Interior.

ACTION: Extension of comment period for the Black Mesa Project draft environmental impact statement (EIS) and scheduling of additional public meeting.

SUMMARY: The Office of Surface Mining Reclamation and Enforcement (OSM) is extending the comment period for the Black Mesa Project draft EIS and scheduling an additional public meeting in Leupp, Arizona.

DATES: To ensure consideration in the preparation of the final EIS, written comments must be received by OSM by 4 p.m., m.s.t., on February 6, 2007. A public meeting to receive comments on the draft EIS will be held in Leupp, Arizona, on January 11, 2007, from noon to 4 p.m. at the Leupp Chapter House on Navajo Route 15.

ADDRESSES: The draft EIS is available for review on OSM's Internet Web site at http://www.wrcc.osmre.gov/WR/BlackMesaEIS.htm. Paper and computer compact disk (CD) copies of the draft EIS are also available for review at the Office of Surface Mining, Western Region, 1999 Broadway, Suite 3320, Denver, Colorado 80202-5733.

A limited number of CD and paper copies of the draft EIS have been prepared and are available upon request. Because of the time and expense in producing and mailing CD and paper copies, OSM requests that you review the Internet or publicly-available copy, if possible. You may obtain a CD or paper copy by contacting the person identified below in FOR FURTHER INFORMATION CONTACT. In your request, indicate whether you want a CD or paper copy.

Comments on the draft EIS may be submitted in writing or by e-mail over the Internet. At the top of your letter or in the subject line of your e-mail message, indicate that the comments are “BMP Draft EIS Comments.” Include your name and return address in your letter or e-mail message.

• E-mail comments should be sent to BMKEIS@osmre.gov. If you do not receive a confirmation from the system that OSM has received your e-mail comment, contact the person identified in FOR FURTHER INFORMATION CONTACT below.

• Written comments sent by first-class or priority U.S. Postal Service should be mailed to: Dennis Winterringer, Leader, Black Mesa Project EIS, OSM Western Region, P.O. Box 46667, Denver, Colorado 80201-6667.

• Comments delivered by U.S. Postal Service Express Mail or by courier service should be sent to: Dennis Winterringer, Leader, Black Mesa Project EIS, OSM Western Region, 1999 Broadway, Suite 3320, Denver, Colorado 80202-5733.

FOR FURTHER INFORMATION CONTACT: Dennis Winterringer, Leader, Black Mesa Project EIS, OSM Western Region, by telephone at (303) 844-1400, extension 1440, or by e-mail at BMKEIS@osmre.gov.

SUPPLEMENTARY INFORMATION:

I. Extension of the Comment Period and Scheduling of an Additional Public Meeting

II. Background on the Black Mesa Project EIS

III. Availability of Your Comments for Public Review

IV. Specificity of Comments

V. Public Meetings

I. Extension of the Comment Period and Scheduling of an Additional Public Meeting

On November 22 and December 1, 2006, OSM and the Environmental Protection Agency respectively published in the Federal Register notices announcing availability of the Black Mesa Project draft EIS for comment (71 FR 67637 and 71 FR 69562). In the former notice, OSM announced a comment period closing date of January 22, 2007, and the locations, dates, and times for 11 public meetings that will be held from January 2 through 11, 2007.

Subsequent to the publishing of the notices OSM received requests to extend the comment period and a request to reschedule one of the meetings. In consideration of the comment period extension requests, OSM is extending the comment period for 15 days to February 6, 2007. In consideration of the request to reschedule the public meeting in Leupp, Arizona, that was originally announced for January 9, 2007, from 6 p.m. to 9 p.m. at the Leupp Chapter House, OSM has decided to hold the meeting as planned and to also hold another meeting at the same location on January 11, 2007, from noon to 4 p.m.

II. Background on the Black Mesa Project EIS

Pursuant to the National Environmental Policy Act of 1969 (NEPA), OSM prepared a draft EIS analyzing the effects of the proposed Black Mesa Project. The proposed Project consists of Peabody Western Coal Company's operation and reclamation plans for coal mining at the Black Mesa Mine Complex near Kayenta, Arizona; Black Mesa Pipeline Incorporated's (BMPI's) Coal Slurry Preparation Plant at the Black Mesa Mine Complex; BMPI's reconstruction of the 273-mile long Coal Slurry Pipeline across northern Arizona from the Coal Slurry Preparation Plant to the Mohave Generating Station in Laughlin, Nevada; and Salt River Project's and Mohave Generation Station co-owners' construction and operation of a water supply system consisting of water wells in the Coconino aquifer (C aquifer) near Leupp, Arizona, and of a water supply pipeline running 108 miles across the Navajo and Hopi Reservations from the wells to the Coal Slurry Preparation Plant. More information about the project and EIS can be found on OSM's Internet Web site at http://www.wrcc.osmre.gov/WR/BlackMesaEIS.htm.

III. Availability of Your Comments for Public Review

Our practice is to make comments, including names and home addresses, home phone numbers, and e-mail addresses of respondents, available for public review. Individual respondents may request that we withhold their names and/or home addresses, etc., but if you wish us to consider withholding this information you must state this prominently at the beginning of your comments and submit your comments by regular mail, not by e-mail. In addition, you must present a rationale for withholding this information. This rationale must demonstrate that disclosure would constitute an unwarranted invasion of privacy. Unsupported assertions will not meet this burden. In the absence of exceptional, documentable circumstances, this information will be released. We will always make submissions from organizations or businesses, and from individuals identifying themselves as representatives or officials of organizations or businesses, available for public inspection in their entirety.

IV. Specificity of Written Comments

Written comments, including e-mail comments, should be sent to OSM at the addresses given in the ADDRESSES section of this notice. Be specific in your comments and indicate the chapter, page, paragraph, and sentence your comments pertain to.

V. Public Meetings

Meeting rooms for the 12 public meetings will be set up in four areas: (1) An area where an audio-visual presentation on the Black Mesa Project and EIS will be made, (2) an area with displays where meeting attendees may discuss the project proposal and the EIS process with OSM and others, (3) an area where meeting attendees may record and submit written comments, and (4) an area where an OSM representative and a transcriber will record oral comments.

To assist the transcriber and ensure an accurate record, OSM requests that each presenter of oral comments provide a written copy of his or her comments, if possible.

Hopi, Hualapai, and Navajo interpreters will be present respectively at meetings on the Hopi, Hualapai, and Navajo Reservations.

If you are disabled or need reasonable accommodations to attend one of the meetings, contact the person under FOR FURTHER INFORMATION CONTACT at least 1 week before the meeting.

Dated: January 10, 2007.
Willie R. Taylor,
Director, Office of Environmental Policy and Compliance.

[FR Doc. E7-454 Filed 1-12-07; 8:45 am]

BILLING CODE 4310-05-P